INTERNATIONAL TRADE COMMISSION

[USITC SE-16-003]

Sunshine Act Meeting

AGENCY HOLDING THE MEETING:

United States International Trade Commission.

TIME AND DATE: February 9, 2016 at 11:00 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 701-TA-528-529 and 731-TA-1264-1268 (Final) (Certain Uncoated Paper from Australia, Brazil, China, Indonesia, and Portugal). The Commission is currently scheduled to complete and file its determinations and views of the Commission on February 22, 2016.

5. Outstanding action jackets: none.

In accordance with Commission policy, subject matter listed above, not disposed of at the scheduled meeting, may be carried over to the agenda of the following meeting.

By order of the Commission.
Issued: January 15, 2016.
William R. Bishop,
Supervisory Hearings and Information Officer.

[FR Doc. 2016-01242 Filed 1-19-16; 4:15 pm]

BILLING CODE 7020-02-P